ENVIRONMENTAL PROTECTION AGENCY

[FRL-9991-31-Region 10]

Proposed Reissuance of NPDES General Permit for Offshore Seafood Processors in Alaska (AKG524000)

AGENCY: Environmental Protection Agency, Region 10.

ACTION: Notice of proposed reissuance of NPDES General Permit and request for public comment.

SUMMARY: The Director, Office of Water and Watersheds, Environmental Protection Agency (EPA) Region 10, is proposing to reissue a National Pollutant Discharge Elimination System (NPDES) General Permit to Offshore Seafood Processors in Alaska. As proposed, the General Permit will authorize discharges of seafood processing waste from facilities (also referred to as “vessels”) that discharge at least 3 nautical miles (NM) or greater from the Alaska shore as delineated by mean lower low water (MLLW) or a closure line and which engage in the processing of fresh, frozen, canned, smoked, salted or pickled seafood, the processing of mince, or the processing of meal, paste and other secondary by-products.

DATES: Comments must be received by May 9, 2019.

ADDRESSES: You may send comments by any of the following methods:

Comments on the draft General Permit should be sent to Director, Office of Water and Watersheds; USEPA Region 10; 1200 Sixth Avenue, Suite 155, OWW-191; Seattle, WA 98101 and may also be submitted by fax to (206) 553-0165 or electronically to ziobro.joseph@epa.gov.

FOR FURTHER INFORMATION CONTACT: Permit documents may be found on the EPA Region 10 website at: https://www.epa.gov/npdes-permits/npdes-general-permit-offshore-seafood-processors-alaska. Copies of the draft general permit and Fact Sheet are also available upon request. Requests may be made to Audrey Washington at (206) 553-0523 or to Joseph Ziobro at (206) 553-2723. Requests may also be electronically mailed to: washington.audrey@epa.gov, or ziobro.joseph@epa.gov.

SUPPLEMENTARY INFORMATION:

I. General Information

There are currently fewer than 100 permitted seafood processors that discharge effluent and operate more than 3 NM from the Alaskan shore or closure line. Most of the seafood processed on the vessels are pollock and Pacific cod. Other species have included sablefish, arrowtooth flounder, Pacific hake, jack mackerel, Alaska plaice, Pacific Ocean perch, rockfish, sculpin, lumpsucker, skate, sole, Greenland turbot, bairdi, opilio, and king crab. The permit authorizes the discharge of seafood processing wastes that are mostly waste solids (shell, bones, skin, scales, flesh and organs), blood, body fluids, slime, oils and fats from cooking and rendering operations; disinfectants; and miscellaneous wastewaters. This Permit does not authorize the discharge of pollutants from any shore-based facilities, nor any pollutants from vessels transporting seafood processing waste solely for the purpose of dumping materials into ocean waters. The median annual waste discharged from a vessel in 2014 and 2015 was 7.1 and 6.2 million pounds, respectively.

A description of the basis for the conditions and requirements of the draft general permit is given in the Fact Sheet. In addition, the EPA has completed an Ocean Discharge Criteria Evaluation pursuant to 40 CFR Subpart M which supports the basis for the conditions and requirements in the draft general permit. Facilities will receive a written notification from the EPA whether permit coverage and authorization to discharge under the general permit is approved. Major changes from the 2009 General Permit include the removal of the metals monitoring requirement and the removal of the requirement to grind effluent except in cases when vessels that discharge more than 10 million pounds per annual reporting year are discharging within Steller Sea Lion critical habitat areas designated by the National Marine Fisheries Service.

The EPA is preparing a Biological Evaluation for this Permit action. Consultations under the Endangered Species Act between the EPA and the National Marine Fisheries Service and the U.S. Fish and Wildlife Service are ongoing. Also for review in Section X of the Fact Sheet are potential mitigation measures provided by National Marine Fisheries Service for vessels that are exempt from grinding requirements in Steller sea lion critical habitat.

II. Other Legal Requirements

This action was submitted to the Office of Management and Budget (OMB) for review under Executive Orders 12866, Regulatory Planning and Review, and 13563, Improving Regulation and Regulatory Review, and was determined to be not significant. Compliance with Endangered Species Act, Essential Fish Habitat, Paperwork Reduction Act, and other requirements are discussed in the Fact Sheet to the proposed permit.

Dated: March 15, 2019.
Daniel D. Opalski,
Director, Office of Water and Watersheds, Region 10.

[FR Doc. 2019-05661 Filed 3-22-19; 8:45 am]

BILLING CODE 6560-50-P